Title 3—

The President

Proclamation 9608 of May 12, 2017

Military Spouse Day, 2017

By the President of the United States of America

A Proclamation

On Military Spouse Day, we honor military spouses for their invaluable contributions to the defense of this great Nation. In 1984, President Ronald Reagan first recognized this day with a proclamation, honoring the exemplary service and immeasurable sacrifices of our Nation's military spouses. This long overdue tribute gives thanks to those who, since the formation of our Republic, have served our country with selfless support. Military spouses have been, and continue to be, a steady, strong presence on the home front and in the hearts of our military men and women.

Most military spouses hold no rank and wear no uniform, yet humbly serve our Nation with distinction. They endure deployments for weeks, months, and years at a time, sometimes with little warning, and they must brace themselves for the uncertainty that comes with goodbye. When duty calls, they shoulder the full day-to-day responsibilities of managing a household and often of parenting—many times with little or no support. They face frequent relocations, which interrupt their careers and educational pursuits and require them to leave churches, homes, and friends. Most difficult of all, military spouses live with constant worry about the daily risks our military forces take for our country. Military spouses navigate these and other challenges with uncommon grace and inspiring strength.

My Administration will focus on supporting and increasing opportunities for military spouses. I urge American businesses to create opportunities for hiring, training, and promoting military spouses, and to identify ways to keep them employed following relocations. These women and men have skills and experiences valued by employers and coworkers alike. They give so much of themselves to our country, and they deserve our enduring respect and appreciation in return. I have pledged to our Armed Forces to have their backs, and that means providing for our military spouses as well.

On this Military Spouse Day, we recognize the exceptional women and men who have shared their loved ones with our country. We honor them for their service, praise them for their sacrifices, and offer them our gratitude and prayers on behalf of a grateful Nation.

NOW, THEREFORE, I, DONALD J. TRUMP, President of the United States of America, by virtue of the authority vested in me by the Constitution and the laws of the United States, do hereby proclaim May 12, 2017, as Military Spouse Day. I call upon the people of the United States to honor military spouses with appropriate ceremonies and activities.

IN WITNESS WHEREOF, I have hereunto set my hand this twelfth day of May, in the year of our Lord two thousand seventeen, and of the Independence of the United States of America the two hundred and forty-first.

[FR Doc. 2017-10159

Filed 5-16-17; 11:15 am]

Billing code 3295-F7-P